DEPARTMENT OF TRANSPORTATION

Federal Highway Administration

Environmental Impact Statement: Lake, Cook and McHenry Counties, Illinois

AGENCY: Federal Highway Administration (FHWA), DOT.

ACTION: Notice of intent to prepare an environmental impact statement (EIS).

SUMMARY: The FHWA is issuing this notice to advise the public that an environmental impact statement will be prepared for a proposed transportation improvement project in Lake, Cook and McHenry Counties in Illinois.

FOR FURTHER INFORMATION CONTACT: Catherine A. Batey, Division Administrator, Federal Highway Administration, 3250 Executive Park Drive, Springfield, Illinois 62703, Phone: 217-492-4640. Paul Kovacs, Chief Engineer, Illinois Tollway, 2700 Ogden Avenue, Downers Grove, Illinois 60515, Phone 630-241-6800. Anthony Quigley, Deputy Director of Highways, Region 1 Engineer, Illinois Department of Transportation, 201 West Center Court, Schaumburg, Illinois 60196, Phone: 847-705-4401.

SUPPLEMENTARY INFORMATION: The FHWA, in cooperation with the Illinois Tollway and the Illinois Department of Transportation (IDOT), will prepare an environmental impact statement (EIS) for a proposed transportation improvement project in Lake County, northern portions of Cook County, and eastern portions of McHenry County. The FHWA intends to issue a single Final EIS and Record of Decision (ROD) document pursuant to the FAST Act Section 1311 requirements, unless FHWA determines statutory criteria or practicability considerations preclude issuance of a combined document.

Improvements in the project area are proposed to reduce congestion, improve reliability of travel, improve travel options connecting major origins and destinations, and improve local and regional travel efficiency. Alternatives under consideration to address these needs include (1) improvements to the existing roadway network; (2) construction on new alignment; (3) improvements to transit, including rail and bus; (3) improvements to bicycle and pedestrian facilities; (4) transportation system management/transportation demand management strategies; and (5) taking no action.

Federal approvals needed for this project may include permits under Clean Water Act Sections 402 and 404 and Section 401 water quality certification. Section 7 consultation with the US Fish and Wildlife Service may also be required. The project will comply with the Clean Air Act, Title VI of the Civil Rights Act, Section 4(f) of the U.S. Department of Transportation Act of 1966, and Executive Order 12898 “Federal Actions to Address Environmental Justice in Minority Populations and Low-Income Populations,” and other applicable state and Federal laws.

A Stakeholder Participation Group, consisting of community leaders, technical experts, and interest groups, has been formed as part of early coordination efforts to assist in the development of the purpose and need and to provide input on alternative evaluation. Additionally, all individuals and organizations expressing interest in the project will be able to participate in the process through various public outreach opportunities. These opportunities include, but are not limited to, the project website, public meetings and hearings, speakers' bureau events, and press releases.

To ensure that the full range of issues related to this proposed action are addressed and all significant issues identified, comments and suggestions are invited from all interested parties. Scoping input on the proposed project will be invited during a public informational meeting scheduled for July 25, 2018, and may also be submitted via the project website or in writing to the Illinois Tollway, 2700 Ogden Avenue, Downers Grove, Illinois 60515, attention Pete Foernssler. Comments and questions concerning the proposed action and this notice should be directed to the Illinois Tollway at the address provided above by the close of business on August 24, 2018.

Authority: 23 U.S.C. 315; 23 CFR 771.123.

(Catalog of Federal Domestic Assistance Program Number 20.205, Highway Planning and Construction. The regulations implementing Executive Order 12372 regarding intergovernmental consultation on Federal programs and activities apply to this program.)

Issued on: July 9, 2018.
Division Administrator,
Springfield, Illinois.

[FR Doc. 2018-15097 Filed 7-13-18; 8:45 am]

BILLING CODE 4910-22-P